DEPARTMENT OF COMMERCE

International Trade Administration

[A-428-821, A-588-837]

Large Newspaper Printing Presses and Components From Germany and Japan: Extension of Time Limit for Preliminary and Final Results of Five-Year Sunset Reviews

AGENCY: Import Administration, International Trade Administration, Department of Commerce.

ACTION: Notice of extension of time limit for preliminary and final results of five-year (“sunset”) reviews; large newspaper printing presses and components from Germany and Japan.

SUMMARY: The Department of Commerce (“the Department”) is extending the time limit for preliminary and final results in the full sunset review of the antidumping duty order on large newspaper printing presses and components (LNPPs) from Germany.¹ In addition, we are aligning and extending the expedited sunset review on LNPPs from Japan with the full sunset review of the antidumping duty order on LNPPs from Germany in order to address an issue concerning domestic interested party response—an issue relevant in both proceedings.² As a result, although not required under the statute or regulations, the Department intends to issue preliminary results on LNPPs from Japan along with the preliminary results on LNPPs from Germany not later than February 19, 2002. In addition the Department intends to issue its final results in both reviews, not later than June 27, 2002.

¹ The Department normally will issue its preliminary results in a full sunset review not later than 110 days after the date of publication in the Federal Register of the notice of initiation. However, if the Secretary determines that a full sunset review is extraordinarily complicated under section 751(c)(5)(C) of the Act, the Secretary may extend the period for issuing final results by not more than 90 days (see section 751(c)(5)(B) of the Act).

² Section 751(c)(2)(B) of the Act provides that the Department “may issue” a final determination in an expedited sunset review within 120 days after initiation. The Department has the discretion to determine whether it will conduct an expedited review within 120 days.

EFFECTIVE DATE: November 23, 2001.

FOR FURTHER INFORMATION CONTACT: Martha V. Douthit, Import Administration, International Trade Administration, U.S. Department of Commerce, 14th Street & Constitution Avenue, NW, Washington, DC 20230; telephone: (202) 482-5050.

Extension of Preliminary and Final Results

On August 1, 2001, the Department initiated (66 FR 39731) sunset reviews of the antidumping duty orders on LNPPs from Germany and Japan. In the Germany review, the Department had determined that a full (240 day) sunset review was warranted. The Department has now determined that it also is appropriate to take the maximum amount of time allowed under the statute to conduct the Japan sunset review. In the sunset review of the antidumping duty order on LNPPs from Japan, the Department had determined to conduct an expedited sunset review because no respondent interested party had filed a substantive response expressing interest in the order. Since that time, however, an issue has arisen in the German review, concerning the adequacy of the domestic interested party response that is relevant to the Japan case as well, i.e. the domestic interested party is the same in both cases. Therefore, we are aligning the deadlines to the sunset review on LNPPs from Japan, with the full sunset review on LNPPs from Germany.

The Department also has determined to extend the 240 day deadline in both sunset reviews, because, as a result of the domestic interested party adequacy issue, we find they are extraordinarily complicated. We are therefore extending the period for issuing preliminary and final results by 90 days (see section 751(c)(5)(B) of the Act). Thus, the Department intends to issue the preliminary and final results on LNPPs from Germany and Japan, not later than February 19, 2002 and June 27, 2002, respectively, in accordance with section 751(c)(5)(B) of the Act.

Dated: November 16, 2001.
Faryar Shirzad,
Assistant Secretary for Import Administration.

[FR Doc. 01-29277 Filed 11-21-01; 8:45 am]

BILLING CODE 3510-DS-P